DEPARTMENT OF COMMERCE

International Trade Administration

[C-570-911]

Circular Welded Carbon Quality Steel Pipe From the People's Republic of China: Rescission of Countervailing Duty Administrative Review; 2011

AGENCY: Import Administration, International Trade Administration, Department of Commerce.

SUMMARY: The Department of Commerce (“the Department”) is rescinding the administrative review of the countervailing duty order on circular welded carbon quality steel pipe from the People's Republic of China (“PRC”) for the period January 1, 2011, through December 31, 2011.

DATES: Effective Date: February 11, 2013.

FOR FURTHER INFORMATION CONTACT: Joshua Morris, AD/CVD Operations, Office 1, Import Administration, International Trade Administration, U.S. Department of Commerce, 14th Street and Constitution Avenue NW., Washington, DC 20230; telephone: (202) 482-1779.

SUPPLEMENTARY INFORMATION:

Background

The Department initiated an administrative review of the countervailing duty order on circular welded carbon quality steel pipe from the PRC covering the period January 1, 2011, through December 31, 2011, based on requests by Wheatland Tube Company (“Wheatland”) and LDR Industries, Inc. (“LDR”). See Initiation of Antidumping and Countervailing Duty Administrative Reviews and Request for Revocation in Part, 77 FR 52688, 52691 (August 30, 2012).

The review covers 24 companies: Adler Steel Ltd.; Al Jazeera Steel Products Co. SAOG; Baoshan Iron & Steel Co., Ltd.; Benxi Northern Steel Pipes, Co. Ltd.; CNOOC Kingland Pipeline Co., Ltd.; ETCO (China) International Trading Co., Ltd.; Guangzhou Juyi Steel Pipes Co., Ltd.; Hefei Zijin Steel Tube Manufacturing Co., Ltd.; Huludao City Steel Pipe Industrial; Jiangsu Changbao Steel Tube Co., Ltd.; Jiangsu Yulong Steel Pipe Co., Ltd.; Liaoning Northern Steel Pipe Co., Ltd.; MCC Liaoning Dragon Pipe Industries; Shanghai Zhongyou Tipo Steel; SteelFORCE Far East Ltd.; Tianjin Huilitong Steel Tube Co., Ltd.; Tianjin Longshenghua Import & Export; Tianjin Shuangjie Steel Pipe Co., Ltd.; Tianjin Uniglory International Trade Co., Ltd.; Weifang East Steel Pipe Co., Ltd.; Wuxi Fastube Industry Co., Ltd.; Xuzhou Global Pipe & Fitting Manufacturing Co., Ltd.; Zhejiang Kingland Pipeline Industry Co., Ltd.; and Zhongjian Jinpei Steel Pipe Co. Ltd.

On September 11, 2012, LDR withdrew its request for an administrative review of Xuzhou Global Pipe & Fitting Manufacturing Co., Ltd. On November 28, 2012, Wheatland withdrew its request for an administrative review of the remaining 23 companies.

Rescission of Review

Pursuant to 19 CFR 351.213(d)(1), the Department will rescind an administrative review, in whole or in part, if the party that requested the review withdraws its request within 90 days of the publication of the notice of initiation of the requested review. In this case, LDR and Wheatland withdrew their requests within the 90-day deadline and no other parties requested an administrative review of the countervailing duty order. Therefore, we are rescinding the administrative review of circular welded carbon quality steel pipe from the PRC covering the period January 1, 2011, through December 31, 2011.

Assessment

The Department will instruct U.S. Customs and Border Protection (“CBP”) to assess countervailing duties on all entries of circular welded carbon quality steel pipe from the PRC during the POR at rates equal to the cash deposit of estimated countervailing duties required at the time of entry or withdrawal from warehouse for consumption, in accordance with 19 CFR 351.212(c)(1)(i). The Department intends to issue appropriate assessment instructions to CBP 15 days after publication of this notice.

Notifications

This notice serves as a final reminder to importers of their responsibility under 19 CFR 351.402(f)(2) to file a certificate regarding the reimbursement of countervailing duties prior to liquidation of the relevant entries during this review period.

This notice also serves as a final reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 5, 2013.
Christian Marsh,
Deputy Assistant Secretary for Antidumping and Countervailing Duty Operations.

[FR Doc. 2013-03081 Filed 2-8-13; 8:45 am]

BILLING CODE 3510-DS-P